SECURITIES AND EXCHANGE COMMISSION

Sunshine Act Meeting; Cancellation

FEDERAL REGISTER CITATION OF PREVIOUS ANNOUNCEMENT: 86 FR 10609, February 22, 2021.

PREVIOUSLY ANNOUNCED TIME AND DATE OF THE MEETING: Thursday, February 25, 2021 at 2:30 p.m.

CHANGES IN THE MEETING: The Closed Meeting scheduled for Thursday, February 25, 2021 at 2:30 p.m., has been cancelled.

CONTACT PERSON FOR MORE INFORMATION: For further information; please contact Vanessa A. Countryman from the Office of the Secretary at (202) 551-5400.

Dated: February 24, 2021.
Vanessa A. Countryman,
Secretary.

[FR Doc. 2021-04120 Filed 2-24-21; 11:15 am]

BILLING CODE 8011-01-P